DEPARTMENT OF TRANSPORTATION

Federal Aviation Administration

14 CFR Parts 1, 21, 22, 36, 43, 45, 61, 65, 91, and 119

[Docket No.: FAA-2023-1377; Notice No. 23-10]

RIN 2120-AL50

Modernization of Special Airworthiness Certification

AGENCY: Federal Aviation Administration (FAA), Department of Transportation (DOT).

ACTION: Notice of proposed rulemaking (NPRM); extension of comment period.

SUMMARY: This action extends the comment period for the NPRM titled “Modernization of Special Airworthiness Certification,” that was published on July 24, 2023. In that document, the FAA proposed to amend rules for the manufacture, certification, operation, maintenance, and alteration of light-sport aircraft. The proposed amendments would enable enhancements in safety and performance and would increase privileges under a number of sport pilot and light-sport aircraft rules. These enhancements include increasing suitability for flight training, limited aerial work, and personal travel. This proposed rule would expand what aircraft sport pilots may operate. The NPRM also proposed to amend the special purpose operations for restricted category aircraft; amend the duration, eligible purposes, and operating limitations for experimental aircraft; and add operating limitations applicable to experimental aircraft engaged in space support vehicle flights to codify statutory language. The FAA is extending the comment period for this NPRM to allow commenters additional time to analyze the proposed rule and prepare a response.

DATES: The comment period for the NPRM published on July 24, 2023, at 88 FR 47650, and scheduled to close on October 23, 2023, is extended January 22, 2024.

ADDRESSES: Send comments identified by docket number FAA-2023-1377 using any of the following methods:

• Federal eRulemaking Portal: Go to regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC 20590-0001 between 9 a.m. and 5 p.m., Monday through Friday, except Federal holidays.

• Fax: Fax comments to Docket Operations at (202)-493-2251.

Privacy: In accordance with 5 U.S.C. 553(c), DOT solicits comments from the public to better inform its rulemaking process. DOT posts these comments, without edit, including any personal information the commenter provides, to regulations.gov, as described in the system of records notice (DOT/ALL-14 FDMS), which can be reviewed at dot.gov/privacy.

Docket: Background documents or comments received may be read at regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: For technical questions concerning this action, contact James Newberger, Aircraft Certification Service (AIR-632), Federal Aviation Administration, 800 Independence Ave. SW, Washington, DC 20591, telephone (202) 267-1636; email james.e.newberger@faa.gov.

SUPPLEMENTARY INFORMATION:

A. Comments Invited

The FAA invites interested persons to participate in this rulemaking by submitting written comments, data, or views. The FAA also invites comments relating to the economic, environmental, energy, or federalism impacts that might result from adopting the proposals in this document. Additionally, the FAA requests comment on whether the FAA should remove the definition of consensus standard from § 1.1 altogether or revise the definition as proposed. The most helpful comments reference a specific portion of the proposal, explain the reason for any recommended change, and include supporting data. To ensure the docket does not contain duplicate comments, commenters should submit only one time if comments are filed electronically or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

B. Confidential Business Information

Confidential Business Information (CBI) is commercial or financial information that is both customarily and actually treated as private by its owner. Under the Freedom of Information Act (FOIA), 5 U.S.C. 552, CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section of this document. Any commentary the FAA receives which is not specifically designated as CBI will be placed in the public docket for this rulemaking.

C. Availability of Rulemaking Documents

An electronic copy of rulemaking documents may be obtained from the internet by—

1. Searching the Federal eRulemaking Portal at regulations.gov;

2. Visiting the FAA's Regulations and Policies web page at faa.gov/regulations_policies/; or

3. Accessing the Government Printing Office's web page at GovInfo.com.

Copies may also be obtained by sending a request to the Federal Aviation Administration, Office of Rulemaking, ARM-1, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

Background

On July 24, 2023, the FAA published an NPRM titled “Modernization of Special Airworthiness Certification,” in the Federal Register (88 FR 47650; Notice No. 23-10). In the NPRM, the FAA proposed to amend rules for the manufacture, certification, operation, maintenance, and alteration of light-sport aircraft. The proposed amendments would enable enhancements in safety and performance and would increase privileges under a number of sport pilot and light-sport aircraft rules. These enhancements include increasing suitability for flight training, limited aerial work, and personal travel. This proposed rule would expand what aircraft sport pilots may operate. The NPRM also proposed to amend the special purpose operations for restricted category aircraft; amend the duration, eligible purposes, and operating limitations for experimental aircraft; and add operating limitations applicable to experimental aircraft engaged in space support vehicle flights to codify statutory language. Commenters were instructed to provide comments on or before October 23, 2023 (i.e., 90 days from the date of publication of the NPRM).

Since publication, the FAA received 10 comments from individuals requesting that comment period not be extended. The FAA has also received requests from Aircraft Electronics Association, Aeronautical Repair Station Association, Aviation Suppliers Association, Aviation Technician Education Council, Helicopter Association International, International Air Response, Inc., Modification and Replacement Parts Association, and the National Air Transportation Association to extend the comment period by an additional ninety (90) days. These commenters requested more time to review the proposed rule and associated guidance documents, and to develop comments and recommendations.

The FAA grants the requests for an extension of the comment period. While some commentators opposed extending the comment period, the FAA recognizes the importance of the proposed rule and that an extension would help commenters craft complete and thoughtful responses. With this extension, the comment period will now close on January 22, 2024. This will provide the public with a total of one hundred and eighty (180) days to conduct its review and submit comments to the docket.

The FAA will not grant any additional requests to further extend the comment period for this rulemaking.

Extension of Comment Period

In accordance with § 11.47(c) of title 14, Code of Federal Regulations, the FAA has reviewed the requests for an extension of the comment period for this notice. Those requesting an extension have shown a substantive interest in the proposed policy and good cause for the extension of the comment period. The FAA has determined that an extension of the comment period for an additional ninety (90) days to January 22, 2024 is consistent with the public interest, and that good cause exists for taking this action.

Accordingly, the comment period for Notice No. 23-10 is extended until January 22, 2024.

Issued under authority provided by 49 U.S.C. 106(f), 44701(a) and 44703 in Washington, DC.

Lirio Liu,
Executive Director, Aircraft Certification Service.

[FR Doc. 2023-21887 Filed 10-3-23; 8:45 am]

BILLING CODE 4910-13-P